DEPARTMENT OF ENERGY

Federal Energy Regulatory Commission

[Project No. 11392-009]

J&T Hydro Company; H. Dean Brooks and W. Bruce Cox; Notice of Application for Transfer of License and Soliciting Comments and Motions To Intervene

January 12, 2010.

On October 30, 2009, J&T Hydro Company (transferor) and W. Dean Brooks, and H. Bruce Cox (transferees) filed an application for transfer of license of the Ramseur Project No. 11392 located on the Deep River in Randolph County, North Carolina.

The transferor and transferees seek Commission approval to transfer the license for the Ramseur Project from the transferor to the transferee.

Applicant Contacts: For transferor and transferee: Mark K. Seifert, 107 Saint Brides Court, Cary, NC 27518, (919) 362-4452.

FERC Contact: Steven Sachs, (202) 502-8666 or Steven.Sachs@ferc.gov.

Deadline for filing comments and motions to intervene: 30 days from the issuance of this notice. Comments and motions to intervene may be filed electronically via the Internet. See 18 CFR 385.2001(a)(1)(iii)(2009) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-11392) in the docket number field to access the document. For assistance, call toll-free 1-866-208-3372.

Kimberly D. Bose,
Secretary.

[FR Doc. 2010-911 Filed 1-19-10; 8:45 am]

BILLING CODE 6717-01-P